DEPARTMENT OF TRANSPORTATION

Federal Highway Administration

Notice of Final Federal Agency Actions on Proposed Highway in Texas

AGENCY: Federal Highway Administration (FHWA), DOT.

ACTION: Notice of Limitation on Claims for Judicial Review of Actions by FHWA, U.S. Army Corps of Engineers (USACE) and Other Federal Agencies.

SUMMARY: This notice announces actions taken by the FHWA and other Federal agencies that are final within the meaning of 23 U.S.C. 139(l)(1). The actions relate to the proposed SH 121 (Chisholm Trail) highway project in the State of Texas. Those actions grant licenses, permits and approvals for the project.

DATES: By this notice, the FHWA is advising the public of final agency actions subject to 23 U.S.C. 139(l)(1). A claim seeking judicial review of the Federal agency actions on the listed highway project will be barred unless the claim is filed on or before January 23, 2012. If the Federal law that authorizes judicial review of a claim provides a time period of less than 180 days for filing such claim, then that shorter time period still applies.

FOR FURTHER INFORMATION CONTACT: For FHWA: Salvador Deocampo, District Engineer, Texas Division, FHWA, J.J. Pickle Federal Building 300 East 8th Street, Room 826, Austin, Texas 78701; phone number 512-536-5950; e-mail: Salvador.Deocampo@dot.gov; FHWA Texas Division normal business hours are 8 a.m. to 5 p.m. (central time) Monday through Friday. For Texas Department of Transportation (TxDOT): Ms. Dianna Noble, P.E., Director Environmental Affairs Division, TxDOT, 118 E. Riverside, Austin, Texas 78704; phone number 512-416-2734; e-mail: Dianna.Noble@txdot.gov; TxDOT normal business hours are 8 a.m. to 5 p.m. (central time) Monday through Friday.

SUPPLEMENTARY INFORMATION: Notice is hereby given that the FHWA and other Federal agencies have taken final agency actions by issuing licenses, permits, and approvals for the following highway project in the State of Texas: State Highway (SH) 121 (also known as Chisholm Trail) from Farm to Market (FM) 1187 to United States (US) 67 within the cities of Fort Worth, Crowley, Burleson, Joshua and Cleburne in Tarrant and Johnson Counties. Project Reference Number: TxDOT CSJ: 0504-04-001 and 0504-05-001. The project is the construction of an approximate 14-mile new location toll road (SH 121), that will connect FM 1187 to US 67. The project will consist of an ultimate facility of two travel lanes in each direction with shoulders. The project will be constructed in phases. The actions by the Federal agencies on the project, and the laws under which such actions were taken, are described in the documented Environmental Assessment (EA), with a Findings of No Significant Impact (FONSI) issued May 20, 2004 and reaffirmed May 10, 2011 and in other document project records. The EA, FONSI, and other project records for the listed project are available by contacting the FHWA or the Texas Department of Transportation at the addresses provided above. The FHWA EA and FONSI can also be viewed at the project Web site: http://www.txdot.gov/project_information/projects/fort_worth/southwest_parkway/environmental_assessment.htm. The USACE decision (USACE Nationwide Permit 14 with pre-construction notification; Project Number SWF-2005-00058) is available by contacting TxDOT at the address provided above or can be viewed at the project Web site. The Decision Document for Nationwide Permit 14 along with the Supplemental Decision Document for Nationwide Permit 14 for regional conditions are also available by contacting TxDOT at the address provided above or can be viewed at the project Web site. The USACE involvement with this project is limited to approving the Section 404 permit for the project.

This notice applies to all Federal agency decisions on the listed project as of the issuance date of this notice and all laws under which such actions were taken, including but not limited to:

1. General: National Environmental Policy Act [42 U.S.C. 4321 et seq.]; Federal-Aid Highway Act [23 U.S.C. 109 and 23 U.S.C. 128].

2. Air: Clean Air Act [42 U.S.C. 7401-7671(q)].

3. Land: Section 4(f) of the Department of Transportation Act of 1966 [23 U.S.C. 138 and 49 U.S.C. 303].

4. Wildlife: Endangered Species Act of 1973 [16 U.S.C. 1531-1544 and Section 1536]; Fish and Wildlife Coordination Act [16 U.S.C. 661-667(d)]; and Migratory Bird Treaty Act [16 U.S.C. 703-712].

5. Historic and Cultural Resources: Section 106 of the National Historic Preservation Act of 1966, as amended [16 U.S.C. 470]; Archeological Resources Protection Act of 1977 [16 U.S.C. 470]; Archeological and Historic Preservation Act [16 U.S.C. 469].

6. Social and Economic: Title VI of the Civil Rights Act of 1964 [42 U.S.C. 2000(d) et seq.]; Farmland Protection Policy Act [7 U.S.C. 4201-4209].

7. Wetlands and Water Resources: Clean Water Act [33 U.S.C. 1251-1377] (Section 404, Section 401, Section 402, Section 319); Rivers and Harbors Act of 1899 [33 U.S.C. 401-406]; and Land and Water Conservation Fund [16 U.S.C. 4601-4604].

8. Executive Orders: E.O. 11990 Protection of Wetlands; E.O. 11988 Floodplain Management; E.O. 12898, Federal Actions to Address Environmental Justice in Minority Populations and Low Income Populations; E.O. 11593 Protection and Enhancement of Cultural Resources; E.O. 13175 Consultation and Coordination with Indian Tribal Government; E.O. 11514 Protection and Enhancement of Environmental Quality.

(Catalog of Federal Domestic Assistance Program Number 20.205, Highway Planning and Construction. The regulations implementing Executive Order 12372 regarding intergovernmental consultation on Federal programs and activities apply to this program.)

Authority: 23 U.S.C. 139(l)(1).

Issued on: July 20, 2011.
Salvador Deocampo,
District Engineer, Austin, Texas.

[FR Doc. 2011-18821 Filed 7-25-11; 8:45 am]

BILLING CODE 4910-RY-P